DEPARTMENT OF ENERGY

Federal Energy Regulatory Commission

Combined Notice of Filings #1

Take notice that the Commission received the following electric corporate filings:

Docket Numbers: EC24-42-000.

Applicants: Hunterstown Gen Holdings, LLC, Kestrel Acquisition, LLC.

Description: Hunterstown Gen Holdings, LLC et. al. submit response to 04/05/2024 letter requesting additional information and request for shortened comment period and expeditious action re 01/16/2024 Application.

Filed Date: 4/24/24.

Accession Number: 20240424-5271.

Comment Date: 5 p.m. ET 5/6/24.

Take notice that the Commission received the following exempt wholesale generator filings:

Docket Numbers: EG24-168-000.

Applicants: Kimmel Road Solar, LLC.

Description: Kimmel Road Solar, LLC submits Notice of Self-Certification of Exempt Wholesale Generator Status.

Filed Date: 4/29/24.

Accession Number: 20240429-5190.

Comment Date: 5 p.m. ET 5/20/24.

Docket Numbers: EG24-169-000.

Applicants: BCD 2024 Fund 3 Lessee, LLC.

Description: BCD 2024 Fund 3 Lessee, LLC submits Notice of Self-Certification of Exempt Wholesale Generator Status.

Filed Date: 4/29/24.

Accession Number: 20240429-5192.

Comment Date: 5 p.m. ET 5/20/24.

Take notice that the Commission received the following Complaints and Compliance filings in EL Dockets:

Docket Numbers: EL24-105-000.

Applicants: Payton Solar, LLC v. PJM Interconnection, L.L.C.

Description: Complaint of Payton Solar, LLC v. PJM Interconnection, L.L.C.

Filed Date: 4/26/24.

Accession Number: 20240426-5205.

Comment Date: 5 p.m. ET 5/10/24.

Take notice that the Commission received the following electric rate filings:

Docket Numbers: ER12-1437-002.

Applicants: Eagle Point Power Generation LLC.

Description: Eagle Point Power Generation LLC submits informational report in advance of an internal corporate transaction that will alter the upstream ownership.

Filed Date: 4/1/24.

Accession Number: 20240401-5672.

Comment Date: 5 p.m. ET 5/3/24.

Docket Numbers: ER15-1905-016.

Applicants: Amazon Energy LLC.

Description: Notice of Change in Status of Amazon Energy LLC.

Filed Date: 4/26/24.

Accession Number: 20240426-5389.

Comment Date: 5 p.m. ET 5/17/24.

Docket Numbers: ER23-1048-003.

Applicants: Lockhart ESS, LLC.

Description: Notice of Non-Material Change in Status of Lockhart ESS, LLC.

Filed Date: 4/26/24.

Accession Number: 20240426-5387.

Comment Date: 5 p.m. ET 5/17/24.

Docket Numbers: ER24-1271-001.

Applicants: Alton Post Office Solar, LLC.

Description: Tariff Amendment: Resp to Deficiency Ltr & Requests for Confidential Treatment & Expedited Action to be effective 4/17/2024.

Filed Date: 4/29/24.

Accession Number: 20240429-5134.

Comment Date: 5 p.m. ET 5/20/24.

Docket Numbers: ER24-1272-001.

Applicants: Foxglove Solar Project, LLC.

Description: Tariff Amendment: Resp to Deficiency Ltr & Requests for Confidential Treatment & Expedited Action to be effective 4/17/2024.

Filed Date: 4/29/24.

Accession Number: 20240429-5138.

Comment Date: 5 p.m. ET 5/20/24.

Docket Numbers: ER24-1848-000.

Applicants: Portland General Electric Company.

Description: Compliance filing: PGE Order Nos. 2023 2023-A Compliance Filing to be effective 11/2/2024.

Filed Date: 4/26/24.

Accession Number: 20240426-5308.

Comment Date: 5 p.m. ET 5/17/24.

Docket Numbers: ER24-1849-000.

Applicants: Atrisco Solar SF LLC.

Description: 205(d) Rate Filing: Lease Agreement between Atrisco Solar and Atrisco Solar SF to be effective 5/1/2024.

Filed Date: 4/26/24.

Accession Number: 20240426-5316.

Comment Date: 5 p.m. ET 5/17/24.

Docket Numbers: ER24-1850-000.

Applicants: Atrisco BESS SF LLC.

Description: 205(d) Rate Filing: Lease Agreement between Atrisco Energy Storage LLC and Atrisco BESSSF to be effective 5/1/2024.

Filed Date: 4/26/24.

Accession Number: 20240426-5320.

Comment Date: 5 p.m. ET 5/17/24.

Docket Numbers: ER24-1851-000.

Applicants: New England Power Company.

Description: 205(d) Rate Filing: 2024-04-26 Filing of Small Generator Interconnection Agmt with Ampersand Gilman to be effective 4/5/2024.

Filed Date: 4/26/24.

Accession Number: 20240426-5322.

Comment Date: 5 p.m. ET 5/17/24.

Docket Numbers: ER24-1852-000.

Applicants: Tampa Electric Company.

Description: 205(d) Rate Filing: Emergency Interchange Service Schedule A&B-2024 to be effective 5/1/2024.

Filed Date: 4/29/24.

Accession Number: 20240429-5004.

Comment Date: 5 p.m. ET 5/20/24.

Docket Numbers: ER24-1853-000.

Applicants: Puget Sound Energy, Inc.

Description: Compliance filing: Order 2023-A Compliance—Annexes A and B to be effective 12/31/9998.

Filed Date: 4/29/24.

Accession Number: 20240429-5055.

Comment Date: 5 p.m. ET 5/20/24.

Docket Numbers: ER24-1854-000.

Applicants: Southwestern Public Service Company, Southwest Power Pool, Inc.

Description: 205(d) Rate Filing: Southwestern Public Service Company submits tariff filing per 35.13(a)(2)(iii: SPS Formula Rate Revisions to Incorporate Changes Accepted in ER24-1267 to be effective 1/1/2024.

Filed Date: 4/29/24.

Accession Number: 20240429-5181.

Comment Date: 5 p.m. ET 5/20/24.

Docket Numbers: ER24-1855-000.

Applicants: Southwest Power Pool, Inc.

Description: 205(d) Rate Filing: 3761R2 KEPCO NITSA NOA to be effective 4/1/2024.

Filed Date: 4/29/24.

Accession Number: 20240429-5187.

Comment Date: 5 p.m. ET 5/20/24.

Docket Numbers: ER24-1856-000.

Applicants: PacifiCorp.

Description: Tariff Amendment: Termination of UAMPS Const Agmt Lehi North Substation to be effective 7/3/2024.

Filed Date: 4/29/24.

Accession Number: 20240429-5191.

Comment Date: 5 p.m. ET 5/20/24.

Docket Numbers: ER24-1857-000.

Applicants: Midcontinent Independent System Operator, Inc.

Description: 205(d) Rate Filing: 2024-04-29 SA 4279 Ameren IL-Fresh Air Energy II GIA (J1422) to be effective 4/17/2024.

Filed Date: 4/29/24.

Accession Number: 20240429-5200.

Comment Date: 5 p.m. ET 5/20/24.

Docket Numbers: ER24-1858-000.

Applicants: AEP Texas Inc.

Description: 205(d) Rate Filing: AEPTX-Portside Energy Center Generation Interconnection Agreement to be effective 4/5/2024.

Filed Date: 4/29/24.

Accession Number: 20240429-5211.

Comment Date: 5 p.m. ET 5/20/24.

Docket Numbers: ER24-1859-000.

Applicants: AEP Texas Inc.

Description: 205(d) Rate Filing: AEPTX-Charter Oak Storage Generation Interconnection Agreement to be effective 4/5/2024.

Filed Date: 4/29/24.

Accession Number: 20240429-5225.

Comment Date: 5 p.m. ET 5/20/24.

Docket Numbers: ER24-1860-000.

Applicants: Duke Energy Florida, LLC.

Description: 205(d) Rate Filing: DEF-Shady Hills Amended and Restated LGIA SA 230 to be effective 4/26/2024.

Filed Date: 4/29/24.

Accession Number: 20240429-5240.

Comment Date: 5 p.m. ET 5/20/24.

Docket Numbers: ER24-1861-000.

Applicants: American Electric Power Service Corporation, PJM Interconnection, L.L.C.

Description: Compliance filing: American Electric Power Service Corporation submits tariff filing per 35: AEP submits Informational Filing about Att. 1 of ILDSA, SA No. 1336 to be effective N/A.

Filed Date: 4/29/24.

Accession Number: 20240429-5269.

Comment Date: 5 p.m. ET 5/20/24.

Docket Numbers: ER24-1862-000.

Applicants: Kimmel Road Solar, LLC.

Description: Baseline eTariff Filing: Kimmel Road Solar, LLC MBR Tariff to be effective 6/29/2024.

Filed Date: 4/29/24.

Accession Number: 20240429-5278.

Comment Date: 5 p.m. ET 5/20/24.

Docket Numbers: ER24-1863-000.

Applicants: BCD 2024 Fund 3 Lessee, LLC.

Description: Baseline eTariff Filing: BCD 2024 Fund 3 Lessee, LLC MBR Tariff to be effective 6/29/2024.

Filed Date: 4/29/24.

Accession Number: 20240429-5283.

Comment Date: 5 p.m. ET 5/20/24.

Docket Numbers: ER24-1864-000.

Applicants: Hardy Hills Solar Energy LLC.

Description: 205(d) Rate Filing: Revision to Market Based Rate Tariff to be effective 6/28/2024.

Filed Date: 4/29/24.

Accession Number: 20240429-5287.

Comment Date: 5 p.m. ET 5/20/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 29, 2024.
Debbie-Anne A. Reese,
Acting Secretary.

[FR Doc. 2024-09690 Filed 5-2-24; 8:45 am]

BILLING CODE 6717-01-P